DEPARTMENT OF HOMELAND SECURITY

Coast Guard

33 CFR Part 100

[Docket No. USCG-2008-0210]

Special Local Regulation; Opening Day on San Francisco Bay, Pacific Inter-Club Yacht Association, San Francisco, CA

AGENCY: Coast Guard, DHS.

ACTION: Notice of enforcement of regulation.

SUMMARY: The Coast Guard will enforce the Opening Day on San Francisco Bay special local regulation from 11:59 a.m. to 2 p.m. on April 27, 2008. This action is necessary to control vessel traffic and to ensure the safety of event participants and spectators. During the enforcement period, no spectator or vessel shall anchor, block, loiter, nor impede the through transit of participants or official patrol vessels, in the regulated areas during all applicable dates and times, unless cleared to do so by or through an official patrol vessel.

DATES: The regulations in 33 CFR 100.1103 will be enforced from 11:59 a.m. to 2 p.m. on April 27, 2008.

FOR FURTHER INFORMATION CONTACT: Lieutenant Junior Grade Sheral Richardson, Waterways Management Branch, U.S. Coast Guard Sector San Francisco, at (415) 399-7436.

SUPPLEMENTARY INFORMATION: Under 5 U.S.C. 553(d)(3), the Coast Guard finds that good cause exists for giving notice of the enforcement date less than 30 days before the enforcement period goes into effect. Delaying notice of the enforcement date would be contrary to the public interest, since immediate action is needed to ensure the safety of the event participants, support vessels, spectator craft and other vessels transiting the event area. However advance notification of this recurring event is being given to users of San Francisco Bay via broadcast notice to mariners and yacht club newsletters.

The Coast Guard will enforce the special local regulation for the annual Opening Day on the Bay in 33 CFR 100.1103 on April 29, 2008, from 11:59 a.m. to 2 p.m. The special local regulation includes San Francisco waterfront from Crissy Field to Pier 35, and can be defined by a line drawn from Fort Point (37[deg]48.66N, 122[deg]28.64W); thence easterly approximately 5,000 yards to a point located at 37[deg]49.15N, 122[deg]25.61W; thence easterly to the Blossom Rock Bell Buoy (37[deg]49.10N, 122[deg]24.20W); thence westerly to the Northeast corner of Pier 35; thence returning along the shoreline to the point of origin.

Under the provisions of 33 CFR 100.1103, spectator vessels may not anchor, block, loiter, nor impede the through transit of participants or official patrol vessels within the area described during the event without permission from the Coast Guard Patrol Commander. Vessels entering the regulated area shall follow the parade route established by the sponsor and be capable of maintaining an approximate speed of six knots. The parade will be interrupted, as necessary, to permit the passage of commercial vessel traffic, which must cross the parade route at a no-wake speed and perpendicular to the parade route. The Coast Guard may be assisted by other Federal, State, or local law enforcement agencies in enforcing this regulation. This notice is issued under authority of 33 CFR 100.1103 and 5 U.S.C. 552(a). Even though this notice is published in the Federal Register, if the Captain of the Port determines that the regulated area need not be enforced for the full duration stated in this notice, he or she may use a Broadcast Notice to Mariners to grant general permission to enter the regulated area.

Dated: April 4, 2008.
P.M. Gugg,
Captain, U.S. Coast Guard, Captain of the Port, Sector San Francisco.

[FR Doc. E8-8736 Filed 4-22-08; 8:45 am]

BILLING CODE 4910-15-P